DEPARTMENT OF THE INTERIOR

Fish and Wildlife Service

Notice of Availability of the Barton Springs Salamander Recovery Plan

AGENCY: Fish and Wildlife Service, Interior.

ACTION: Notice of document availability.

SUMMARY: The U.S. Fish and Wildlife Service (Service) announces the availability of the approved Barton Springs Salamander Recovery Plan (Recovery Plan). The Barton Springs salamander (Eurycea sosorum) is known to occur near four spring outlets that collectively make up Barton Springs in Austin, Texas. Habitat loss and modification from water quality and water quantity degradation are the primary threats facing the species. The Recovery Plan outlines the necessary criteria, objectives, and tasks to reduce these threats and accomplish the goal of delisting the Barton Springs salamander.

ADDRESSES: A copy of the Recovery Plan may be requested by contacting the U.S. Fish and Wildlife Service, Austin Ecological Services Field Office, 10711 Burnet Road, Suite 200, Austin, Texas, 78758. The Recovery Plan may also be obtained from the Internet at: http://www.fws.gov/endangered/recovery/.

FOR FURTHER INFORMATION CONTACT: Field Office Supervisor, Austin Ecological Services Field Office, at the above address; telephone (512) 490-0057, facsimile (512) 490-0974.

SUPPLEMENTARY INFORMATION:

Background

The Barton Springs salamander (Eurycea sosorum) was listed as endangered on May 30, 1997, under authority of the Endangered Species Act of 1973, as amended (Act) (62 FR 23377). The water that discharges from Barton Springs is essential to the survival of the salamander. It originates from the Barton Springs segment of the Edwards Aquifer, a karst limestone aquifer containing a complex system of caves, sinkholes, fractures, and faults. The Edwards Aquifer is particularly vulnerable to contamination and land use changes that degrade the quality of storm water runoff. The primary threat facing the survival and recovery of this species is the degradation of water quality and quantity of water that feeds Barton Springs, as a result of urbanization over the Barton Springs watershed (including roadway, residential, commercial, and industrial development). The Recovery Plan includes information about the species, its habitat, and current conservation efforts. Further, it provides recovery criteria that, when reached, will signify that the species has recovered to a point where it no longer warrants listing as endangered or threatened. Recovery actions are provided to guide recovery implementation and achieve recovery criteria.

Reclassification from endangered to threatened (downlisting) will be considered when the following recovery criteria have been met: (1) Mechanisms (such as laws, rules, regulations, and cooperative agreements) are in place to ensure non-degradation of water quality in the Barton Springs watershed; (2) a plan to avoid, respond to, and remediate hazardous materials spills within the Barton Springs watershed is in place with high priority measures implemented to minimize risks to the Barton Springs salamander to a low level; (3) measures to ensure that continuous, natural springflows are maintained at all four spring outlets are in place and succesful; (4) a healthy, self-sustaining natural population of Barton Springs salamanders is maintained within its historical range; (5) measures to remove local threats to the Barton Springs ecosystem have been implemented; (6) captive populations of Barton Springs salamanders have been established in secure locations under the direction of a Captive Propagation and Contingency Plan.

The Recovery Plan proposes delisting of the Barton Springs salamander when the downlisting criteria have been achieved and the following additional recovery criteria have been met: (1) Water quality protection mechanisms are shown to be effective and commitments are in place to continue protection; (2) measures to implement the catastrophic spill avoidance, response and remediation plans are ensured; (3) measures to maintain adequate springflows are shown to be effective; (4) the Barton Springs salamander population is shown to be viable and stable or increasing; (5) measures to remove local threats to the Barton Springs ecosystem are shown to be effective and a commitment is in place to continue the appropriate management of the surface habitat; (6) captive breeding is shown to be effective and reliable and commitments are in place to maintain adequate captive populations for any needed restoration work.

Due to the Barton Springs salamander's reliance on continuous flow of clean spring water, many of the high-priority recovery tasks outlined in the Recovery Plan are designed to ensure adequate water quality and quantity within the Barton Springs watershed, such as: (1) Developing and implementing catastrophic spill avoidance, response, and remediation plans; (2) implementing programs to protect sensitive environmental features important to salamander habitat or the effective recharge of clean water such as caves, sinkholes, fissures, springs, and riparian zones; (3) developing and implementing programs to identify and correct problems from point and non-point source pollution discharges; and (4) creating a regional management program that will be used to ensure the protection of aquifer level and springflows under normal and drought conditions. Other high-priority recovery actions include ensuring protection for existing spring habitats and establishing and maintaining adequate captive breeding populations.

Restoring an endangered or threatened animal or plant to the point where it is again a secure, self-sustaining member of its ecosystem is a primary goal of the Service's endangered species program. To help guide the recovery effort, the Service is working to prepare recovery plans for most of the listed species native to the United States. Recovery plans describe actions considered necessary for conservation of listed species, establish criteria for downlisting or delisting those species, and estimate time and cost for implementing the recovery measures needed.

The Act requires the development of recovery plans for listed species unless such a plan would not promote the conservation of a particular species. Section 4(f) of the Act, as amended in 1988, requires that public notice and an opportunity for public review and comment be provided during recovery plan development. The Service considers all information presented during a public comment period prior to approval of each new or revised recovery plan. The Service and others also take these comments into account in the course of implementing recovery plans.

Authority: This document is published under the authority of the Endangered Species Act of 1973, as amended (16 U.S.C. 1531 et seq.).

Dated: August 18, 2005.
Larry G. Bell,
Regional Director, Region 2, Fish and Wildlife Service.

[FR Doc. 05-18789 Filed 9-20-05; 8:45 am]

BILLING CODE 4310-55-P